ENVIRONMENTAL PROTECTION AGENCY

[EPA-HQ-OW-2019-0675; FRL 10012-35-OW]

Extension of Public Comment Period: Draft Ambient Water Quality Criteria Recommendations for Lakes and Reservoirs of the Conterminous United States: Information Supporting the Development of Numeric Nutrient Criteria

AGENCY: Environmental Protection Agency (EPA).

ACTION: Notice of availability; extension of comment period.

SUMMARY: The United States Environmental Protection Agency (EPA) is extending the comment period for the Draft Ambient Water Quality Criteria Recommendations for Lakes and Reservoirs of the Conterminous United States: Information Supporting the Development of Numeric Nutrient Criteria, published in the Federal Register on May 22, 2020. In response to stakeholder requests, the comment period will be extended for an additional 30 days, from July 21, 2020 to August 20, 2020.

DATES: The comment period for the notice of availability published May 22, 2020 (85 FR 31184), is extended. The EPA must receive comments on or before August 20, 2020.

ADDRESSES: Submit your comments, identified by Docket ID No. EPA-HQ-OW-2019-0675, to the Federal eRulemaking Portal: https://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

Out of an abundance of caution for members of the public and our staff, the EPA Docket Center and Reading Room was closed to public visitors on March 31, 2020, to reduce the risk of transmitting COVID-19. Our Docket Center staff will continue to provide remote customer service via email, phone, and webform. We encourage the public to submit comments via https://regulations.gov, as there is a temporary suspension of mail delivery to the EPA, and no hand deliveries are currently accepted. For further information on the EPA Docket Center services and the current status, please visit us online at https://www.epa.gov/dockets.

FOR FURTHER INFORMATION CONTACT: Lester Yuan, Health and Ecological Criteria Division, Office of Water (Mail Code 4304T), Environmental Protection Agency, 1200 Pennsylvania Avenue NW, Washington, DC 20460; telephone number: (202) 566-0908; email address: yuan.lester@epa.gov.

SUPPLEMENTARY INFORMATION: On May 22, 2020 (85 FR 31184), EPA announced the availability of the Draft Ambient Water Quality Criteria Recommendations for Lakes and Reservoirs of the Conterminous United States: Information Supporting the Development of Numeric Nutrient Criteria, and opened a 60-day public review and comment period to solicit scientific views, data, and information regarding the science and technical approach used in the derivation of these draft ambient water quality criteria recommendations for lakes and reservoirs.

The original deadline to submit comments was July 21, 2020. This action extends the comment period for 30 days. Written comments must now be received by August 20, 2020. The draft methods and other supporting materials may also be viewed and downloaded from EPA's website at https://www.epa.gov/nutrient-policy-data/draft-ambient-water-quality-criteria-recommendations-lakes-and-reservoirs.

Deborah Nagle,
Director, Office of Science and Technology.

[FR Doc. 2020-15702 Filed 7-20-20; 8:45 am]

BILLING CODE 6560-50-P